DEPARTMENT OF TRANSPORTATION

Federal Aviation Administration

Notice of Release of Land Affecting Federal Grant Assurance Obligations at Pinal Airpark, Marana, Pinal County, Arizona

AGENCY: Federal Aviation Administration, DOT.

ACTION: Notice of request to release airport obligations.

SUMMARY: The Federal Aviation Administration (FAA) is considering a proposal and invites public comment to change a portion of the airport from aeronautical to non-aeronautical use at the Pinal Airpark (MZJ), Marana, Pinal County, Arizona. The proposal consists of approximately 477.53 acres more or less of airport land, located on airport property, east and north of Pinal Airpark Rd.

DATES: Comments must be received on or before June 23, 2022.

ADDRESSES: Comments on the request may be mailed or delivered to the FAA at the following address: Mr. Mike N. Williams, Manager, Phoenix Airports District Office, Federal Aviation Administration, 3800 N Central Ave., Suite 1025, 10th Floor, Phoenix, Arizona 85012. In addition, one copy of the comment submitted to the FAA must be mailed or delivered to Mr. Jim Petty, Airport Economic Development Director, Pinal Airpark, 31 N Pinal St., Building A, Florence, AZ 85132.

SUPPLEMENTARY INFORMATION: The land was originally acquired by Pinal County through Reorganization Plan One of 1947, and the Surplus Property Act of 1944, by the War Assets Administrator, on June 17, 1948. The land will be released from aeronautical obligations for a future non-aeronautical use. Such use of the land represents a compatible land use that will not interfere with the airport or its operation, thereby protecting the interests of civil aviation. The airport will be compensated for the fair market value of the use of the land.

In accordance with the Wendell H. Ford Aviation Investment and Reform Act for the 21st Century (AIR 21), Public Law 106-181 (Apr. 5, 2000; 114 Stat. 75), this notice must be published in the Federal Register 30 days before the DOT Secretary may waive any condition imposed on a federally obligated airport by surplus property conveyance deeds or grant agreements.

Issued in El Segundo, California, on May 18, 2022.
Brian Q. Armstrong,
Manager, Safety and Standards Branch, Airports Division, Western-Pacific Region.

[FR Doc. 2022-11082 Filed 5-23-22; 8:45 am]

BILLING CODE 4910-13-P